DEPARTMENT OF HOUSING AND URBAN DEVELOPMENT

[Docket No. FR-4556-N-18]

Privacy Act of 1974; Establishment of a New System of Records

AGENCY: Office of the Chief Information Officer, HUD.

ACTION: Notification of the Establishment of a new system of records.

SUMMARY: Pursuant to the provision of the Privacy Act of 1974, as amended (5 U.S.C. 552a), the Department of Housing and Urban Development developed the Public and Indian Housing (PIH) Information Center (PIC). This system combines several individual PIH business systems into one integrated system. The PIH systems now exist in one environment, enabling users access to a wealth of data without signing onto multiple systems. PIC incorporates the former Integrated Business System (IBS); Multifamily Tenant Characteristics System (MTCS), previously released on October 1, 1999; and Capital Fund Verification System (FOCVS). It also incorporates new functionality such as the Building and Unit Inventory; Section 8 Management Assessment Program (SEMAP); and Risk Assessment.

PIH developed a state of the art system to improve the submission of information to HUD from the Office of Public and Indian Housing program participants. PIC facilitates more timely and accurate exchanges of data between public housing agencies (PHAs) and HUD Offices.

PIC contains building and unit details, PHA program information, financial and budgetary data, and family records with demographic, rent, and income details.

This system of records also supports the administration of programs for families receiving housing assistance from HUD by those entities that administer HUD's rental assistance programs. Entities that administer HUD's rental assistance programs include: PHAs, Indian Tribes, state agencies, and Tribally Designated Housing Entities participating in the Section 8 Program.

System Security Measures: The integrity and availability of data in PIC are important. Much of the data needs to be protected from unanticipated or unintentional modification. HUD restricts the use of this information to HUD approved officials and PHAs; thus, the data is protected accordingly. As a part of HUD's oversight responsibility, the collected data in PIC is used to calculate the amount of subsidy authorized and disbursed to PHAs to monitor PHAs' overall performance and use of HUD funds.

Vulnerabilities and corresponding security measures include: (1) Multi-user access—access to the PIC system is controlled using PIC's Security module. This module controls a user's access to particular modules, update access, read-only access, and approval access based on the user's role and security access level; (2) unauthorized system access—unauthorized access is reduced by restricting access by job function and by the use of user identifications (User IDs) and passwords. User IDs will also be utilized to identify transactions by users; (3) inaccurate and incomplete data—inaccurate and incomplete data are identified and eliminated with extensive edits, (4) data corruption/destruction—there are limited user IDs that will have update rights to the production server/databases. This will greatly reduce the risk of data destruction or corruption, (5) multi-user processing—PIC utilizes reactive locking (which is an algorithm implemented in database management software so that multiple users cannot update the same data at the same time).

Data Quality: PHAs enter management, building, unit, and family information into PIC. Family information includes the families' names, social security numbers (SSN), and dates of birth. When a PHA submits family data to PIC, the system will verify whether or not the SSN for the family's head of household exists in PIC. If the SSN does exist in PIC, but is actively associated with another PHA, the PHA will receive an error message that states that the family's SSN currently exists in PIC. The error message will also list the PHA that houses the family.

If PHA A submits a SSN to PIC, and the next day PHA B submits the same SSN, PHA B will receive a message that the family's SSN currently exists in PIC.

PHA B will verify the individual's social security number for accuracy. If the SSN is correct, PHA B may call the PHA A to compare families. The PHAs may exchange the family name, SSN, and date of birth of the head of household to determine if the family currently receives benefits from multiple PHAs.

This social security number search feature was established to help HUD maintain data quality and integrity and to support one of its strategic objectives to prevent fraud and abuse. This search feature will (1) help confirm that those families entitled to benefits receive benefits, (2) assist in limiting the duplication of benefits, and (3) help prevent the false application for benefits, thereby ensuring data quality. In addition, PIC will receive income data from state wage-information collection agencies (SWICAs), one or more private vendors and, the Social Security Administration. This will allow PHAs to verify the income of applicants and tenants at the time of occupancy and at re-certification.

DATES: Effective Date: This proposal shall become effective without further notice on May 29, 2002 unless comments are received during or before this period which would result in a contrary determination.

Comments Due Date: May 29, 2002.

ADDRESSES: Interested persons are invited to submit comments regarding this notice to the Rules Docket Clerk, Office of General Counsel, Room 10276, Department of Housing and Urban Development, 451 Seventh Street, SW, Washington, DC 20410-0500. Communications should refer to the above docket number and title. Facsimile (FAX) comments are not acceptable. A copy of each communication submitted will be available for public inspection and copying between 7:30 a.m. and 5:30 p.m. weekdays at the above address.

FOR FURTHER INFORMATION CONTACT: Jeanette Smith, Departmental Privacy Act Officer, telephone number (202) 708-2374. Regarding records maintained in Washington, DC, contact: Johnson Abraham, Deputy Assistant Secretary for Administration and Budget in the Office of Public and Indian Housing and PIC Project Manager, telephone number (202) 708-0440. [The above are not toll free numbers.] A telecommunications device for hearing and speech-impaired persons (TTY) is available at 1-800-877-8339 (Federal Information Relay Services). (This is a toll-free number).

SUPPLEMENTARY INFORMATION: Pursuant to the Privacy Act of 1974 (5 U.S.C. 552a), as amended, notice is given that HUD proposes to establish a new system of records identified as the Public and Indian Housing Information Center (PIC) P113.

Title 5 U.S.C 552a(e)(4) and (11) provide that the public be afforded a 30-day period in which to comment on the new record systems. The new system report was submitted to the Office of Management and Budget (OMB), the Senate Committee on Governmental Affairs and the House Committee on Government Reform pursuant to paragraph 4c of Appendix l to OMB Circular No. A-130, “Federal Responsibilities for Maintaining Records About Individuals,” July 25, 1994 (59 FR 37914).

Accordingly, this notice establishes a new system of records and accompanying routine uses to be submitted and accessed in the management of housing programs of the Office of Public and Indian Housing.

Authority: 5 U.S.C. 552a; 88 Stat. 1896; 42 U.S.C. 3535(d).

Dated: April 22, 2002.
Gloria R. Parker,
Chief Information Officer.

HUD/PIH-4

System Name:

Public and Indian Housing Information Center (PIC).

System Locations:

The files will be maintained at the following location: U. S. Department of Housing and Urban Development, 451 7th Street SW., Washington, DC 20410. Lockheed Martin Corporation, located at 4701 Forbes Blvd., Lanham, MD 20706, will monitor access of any encrypted files containing social security and rent information (subject to the provisions of 26 U.S.C. 6103).

Categories of Individuals Covered by the System:

Families receiving rental housing assistance via programs administered by the Department of Housing and Urban Development, state agencies, Indian Tribes, Tribally Designated Housing Entities participating in the Section 8 program, PHAs and/or owners and management agents.

Categories of Records in the System:

Records consist of automated building, unit, and family composition, income, and rent data obtained from PHAs. The system of records contains—identification information such as names and social security numbers for individuals 6 years and older; alien registration information; address and tenant unit numbers; financial data such as income, adjustments to income, tenant family composition characteristics such as family size, sex of family members, information about the family that would qualify them for certain adjustments or for admission to a project limited to a special population (e.g., elderly, handicapped, or disabled); relationships of members of the household to the head of household (e.g., spouse, child); preferences applicable to the family at admission; income status at admission; race and ethnicity of household members; unit characteristics such as number of bedrooms; geographic data obtained by the PHA; data obtained from third parties to verify data supplied by an applicant or tenant to determine eligibility or level of assistance; data obtained from a state wage information collection agency on wages and claim information; and information on the results of the follow-up phase of owner verifications or a computer match of tenant income (i.e., dollar amount of overpaid assistance, amount repaid, prosecution, termination of assistance, and termination of tenancy).

Also included in PIC are records on contractual agreements (e.g., obligations, payments, contract terms), financial information, and personal data (e.g., names, addresses, taxpayer identification numbers/ social security numbers) for PHAs and/or owners and management agents.

Authority for Maintenance of the System:

Pursuant to the Stewart B. McKinney Homeless Assistance Amendments Act of 1988 and Section 303(i) of the Social Security Act, HUD and HUD-funded public housing authorities may request wage and claim data from State Wage Information Collection Agencies (SWICAs) responsible for administering state unemployment laws. On October 1, 1994, Section 542(a)(1) of HUD's 1998 Appropriation Act, eliminated a sunset provision to Section 303(i) of the Social Security Act, effectively making permanent the authority requiring state agencies to disclose wage and claim information to HUD and public housing agencies. The Housing and Community Development Act of 1987 authorizes HUD to require applicants for and participants in (as well as members of their households six years of age and older) HUD administered rental housing assistance programs to disclose to HUD their social security numbers as a condition of initial or continuing eligibility for participation in these HUD programs. The Omnibus Budget Reconciliation Act of 1993 (Budget Reconciliation Act) authorizes HUD to request from the Social Security Administration federal tax data as prescribed in section 6103 (l)(7) of title 26 of the United States Code (Internal Revenue Code).

Purposes:

The primary purpose of the PIC is to allow PHAs to electronically submit information to HUD that is related to the administration of HUD's Public and Indian Housing programs. The first component of PIC was successfully implemented on December 15, 1999. PIC provides automated interactive support in an IIS/MTS/SQL Server environment for the Office of Public and Indian Housing staff. It collects data for PIH operations, including data submitted via the Internet from HUD's field offices and HUD's business partners, and accurately tracks activities and processes. PIC also helps to increase sharing of information throughout the Office of Public and Indian Housing, which improves staff awareness of activities related to the administration of HUD-subsidized housing programs. PIC is a flexible, scaleable, Internet-based integrated system, which enables PHA users and HUD personnel to access a common database of PHA information via their web browser. PIC will aid HUD and entities that administer HUD's assisted housing programs in: (a) Increasing the effective distribution of rental assistance to individuals that meet the requirements of Federal rental assistance programs, (b) detecting abuses in assisted housing programs, (c) taking administrative or legal actions to resolve past abuses of assisted housing programs, (d) deterring abuses by verifying the income of applicants and tenants at the time of occupancy and at re-certification via the use of electronic income data received from state wage-information collection agencies (SWICAs), one or more private vendors and, the Social Security Administration, (e) evaluating the effectiveness of income discrepancy resolution actions taken by PHAs, owners and management agents for HUD's rental assistance programs, (f) evaluating program effectiveness, (g) improving the reporting rate, (h) forecasting budgets, (i) controlling funds, and (j) updating building and unit data. PIC is a management information system that contains tools to help: (1) distribute capital and operating funds, (2) monitor the Event Tracking System (ETS) by HUD staff, (3) produce management reports, and (4) conduct risk assessments.

The Public and Indian Housing Information Center (PIC) serves as a repository for automated information used when comparing family income data reported—by recipients of Federal rental assistance—to income data received from external sources (e.g., SWICAs, SSA, etc.). Records in PIC are subject to use in authorized and approved computer matching programs regulated under the Privacy Act of 1974, as amended.

Routine Uses of Records Maintained in the System, Including Categories of Users and Purposes of Such Uses:

In addition to the uses cited in the section of this document titled “Purposes”, other routine uses may include:

1. To federal, state, and local agencies (e.g., state agencies administering the state's unemployment compensation laws, state welfare and food stamp agencies, U.S Office of Personnel Management, U.S. Postal Service, U.S. Department of Defense, and U.S. Social Security Administration)—to verify the accuracy and completeness of the data provided, to verify eligibility or continued eligibility in HUD's rental assistance programs, and to aid in the identification of tenant errors, fraud, and abuse in assisted housing programs through HUD's tenant income computer matching program;

2. To individuals under contract to HUD or under contract to another agency with funds provided by HUD—for the preparation of studies and statistical reports directly related to the management of HUD's rental assistance programs, to support quality control for tenant eligibility efforts requiring a random sampling of tenant files to determine the extent of administrative errors in making rent calculations, eligibility determinations, etc., and for processing certifications/re-certifications;

3. To Public Housing Agencies (PHAs)—to verify the accuracy and completeness of tenant data used in determining eligibility and continued eligibility and the amount of housing assistance received;

4. To private owners of assisted housing—to verify the accuracy and completeness of applicant and tenant data used in determining eligibility and continued eligibility and the amount of housing assistance received;

5. To PHAs, owners and management agents, and contract administrators—to identify and resolve discrepancies in tenant data;

6. To the Internal Revenue Service (IRS)—to report income using IRS Form 1099;

7. To the Social Security Administration and Immigration and Naturalization Service—to verify alien status and continued eligibility in HUD's rental assistance programs; and 8.To researchers affiliated with academic institutions, with not-for-profit organizations, or with federal, state or local governments, or to policy researchers—without individual identifiers—name, address, social security number—for the performance of research and statistical activities on housing and community development issues.

Policies for Storing, Retrieving, and Disposing of System Records

Storage:

Records are stored manually in family case files and electronically in office automation equipment. Records are stored on HUD computer servers for field office and public housing agencies' access via the Internet to: (1) Obtain social security and supplemental security income data that are not subject to provisions of 26 U.S.C. 6103; and (2) update actions taken in resolving income discrepancies. Software in PIC precludes the transfer of any data subject to 26 U.S.C. 6103 to unencrypted media.

Retrievability:

Records may be retrieved by manual or computer search of indices by the name or social security number of an existing HUD program participant.

Safeguards:

Records are maintained at the U.S. Department of Housing and Urban Development in Washington, DC with limited access to those persons whose official duties require the use of such records. Computer files and printed listings are maintained in locked cabinets. Computer terminals are secured in controlled areas, which are locked when unoccupied. Access to automated records is limited to authorized personnel who must use a password system to gain access. HUD will safeguard the SSN, income, and rent information obtained pursuant to 26 U.S.C. 6103(l)(7)(A) and (B) in accordance with 26 U.S.C. 6103(p)(4) and the IRS's “Tax Information Security Guidelines for Federal, State and Local Agencies,” Publication 1075 (REV 6/2000).

Retention and Disposal:

Computerized family records are maintained in a password-protected environment. If information is needed for evidentiary purposes, documentation will be referred to the HUD Office of Inspector General (OIG) in Washington, DC or other appropriate Federal, state or local agencies charged with the responsibility of investigating or prosecuting violators of federal law. Documents referred to HUD's OIG will become part of OIG's Investigative Files. Records will be retained and disposed of in accordance with the General Records Schedule included in HUD Handbook 2228.2, appendix 14, item 25.

System Manager and Address:

Johnson Abraham, Deputy Assistant Secretary for Administration and Budget/CFO and Project Manager of PIH's Information Center (PIC), U.S. Department of Housing and Urban Development, 451 7th Street SW., Washington, DC 20410.

Notification and Record Access Procedures:

Individuals seeking to determine whether this system of records contains information about them, or those seeking access to such records, should address inquiries to the Project Manager of PIH's Information Center (PIC), U.S. Department of Housing and Urban Development, 451 7th Street SW., Washington, DC 20410. Written requests must include the full name, Social Security Number, date of birth, current address, and telephone number of the individual making the request.

Contesting Record Procedures:

Procedures for the amendment or correction of records, and for applicants wanting to appeal initial agency determinations based on data in PIC, appear in 24 CFR part 16.

Record Source Categories:

The Office of Public and Indian Housing may receive data from HUD field office staff, federal government agencies, state and local agencies, private data sources, owners and management agents, and public housing agencies. Public Housing Agencies (PHAs) routinely collect personal and income data from participants in and applicants for HUD's public and assisted housing programs. The data collected by PHAs is entered into the PIC system on-line via the system itself, via PHA-owned software, or via HUD's Family Reporting Software (FRS).

Exemptions From Certain Provisions of the Act:

None.

[FR Doc. 02-10504 Filed 4-26-02; 8:45 am]

BILLING CODE 4210-72-P